DEPARTMENT OF DEFENSE

Office of the Secretary

[Docket ID: DoD-2010-OS-0015]

Proposed Collection; Comment Request

AGENCY: Office of the Deputy Under Secretary of Defense (Industrial Policy), DoD.

ACTION: Notice.

In compliance with Section 3506(c)(2)(A) of the Paperwork Reduction Act of 1995, the Office of the Deputy Under Secretary of Defense (Industrial Policy) announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 12, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Deputy Under Secretary of Defense (Industrial Policy), ATTN: Paul Halpern, 241 18th Street South, Suite 501, Arlington, VA 22202 or call at 703-607-4058.

Title and OMB Number: Survey of Foreign Acquired Domestic Facilities with Defense Capabilities; OMB Control Number 0704-TBD.

Needs and Uses: As part of its industrial base oversight responsibilities, DoD is planning to assess in a preliminary way the impact on the U.S. industrial base of the increasing foreign ownership of U.S. defense-relevant firms. Specifically, DoD will evaluate the extent to which foreign acquired firms (1) expanded domestically vs. off-shored production and R&D capabilities; and (2) remained reliable suppliers to defense customers. This assessment is limited to a sample of firms that were DoD suppliers when they were foreign-acquired acquired in 2003 or 2004 and that the Office of the Under Secretary of Defense for Acquisition, Technology & Logistics determined at that time possessed defense critical technology under development.

Affected Public: Business or other for profit.

Annual Burden Hours: 430 hours.

Number of Respondents: 86.

Responses Per Respondent: 1.

Average Burden Per Response: 5 hours.

Frequency: One-time.

SUPPLEMENTARY INFORMATION:

Summary of Information Collection

The Deputy Under Secretary of Defense (Industrial Policy) has responsibility to assess the performance of the industrial base relevant to defense which includes the traditional defense industrial base as well as many dual use and commercial firms that supply goods and services to the defense sector. Because of the value of the U.S. dollar until recently relative to the currencies of many of its trading partners and the profitability of the defense sector over the past five years, an increasing number of defense-relevant firms have been acquired by foreign firms.

As part of its industrial base oversight responsibilities, DoD is planning to assess in a preliminary way the impact on the U.S. industrial base of the increasing foreign ownership of U.S. defense-relevant firms.

DoD will use the information collected to assess the extent to which the foreign-acquired sample of U.S. firms expanded U.S. facilities and/or off-shored them and whether they remained reliable suppliers to their defense agency customers. For the sample of firms surveyed, this assessment will attempt to address:

(a) Growth or contraction in the firm size (measured in sales, capacity utilization, employment and production facility size) since being foreign acquired and the extent to which product lines are still produced in the U.S.;

(b) Growth or contraction in R&D since being foreign acquired and the extent to which R&D is still performed primarily in the U.S.;

(c) Growth or contraction in number of defense contracts and whether any such contracts were terminated and why;

(d) Decisions not to participate in any defense-related contract competitions since being foreign-acquired and why.

Dated: February 1, 2010.
Patricia L. Toppings,
OSD Federal Register Liaison Officer, Department of Defense.

[FR Doc. 2010-2915 Filed 2-9-10; 8:45 am]

BILLING CODE 5001-06-P